DEPARTMENT OF COMMERCE

National Oceanic and Atmospheric Administration

50 CFR Part 622

[Docket No. 1206013412-2517-02;RTID 0648-XF064]

2025-2026 Recreational Closure for Gulf Greater Amberjack

AGENCY: National Marine Fisheries Service (NMFS), National Oceanic and Atmospheric Administration (NOAA), Commerce.

ACTION: Temporary rule; closure.

SUMMARY: NMFS implements an accountability measure for recreational greater amberjack in the Gulf of America (Gulf) reef fish fishery for the 2025-2026 fishing year through this temporary rule. NMFS has determined that for Gulf greater amberjack, the adjusted recreational annual catch target (ACT) for the 2025-2026 fishing year has been exceeded. Therefore, the recreational fishing season for greater amberjack in the Gulf exclusive economic zone (EEZ) will close on September 27, 2025, and the sector will remain closed through, July 31, 2026, the end of the 2025-2026 fishing year. This closure is necessary to protect the Gulf greater amberjack resource.

DATES: This rule is effective 12:01 a.m., local time, September 27, 2025, until 12:01 a.m., local time, August 1, 2026.

FOR FURTHER INFORMATION CONTACT: Kelli O'Donnell, NMFS Southeast Regional Office, 727-824-5305, kelli.odonnell@noaa.gov.

SUPPLEMENTARY INFORMATION: NMFS manages the reef fish fishery of the Gulf, which includes greater amberjack, under the Fishery Management Plan for the Reef Fish Resources of the Gulf (FMP). The Gulf Council and NMFS prepared the FMP, which was approved by the Secretary of Commerce, and NMFS implements the FMP under the authority of the Magnuson-Stevens Fishery Conservation and Management Act (Magnuson-Stevens Act) by regulations at 50 CFR part 622. All greater amberjack weights discussed in this temporary rule are in round weight.

For Gulf greater amberjack, the recreational annual catch limit (ACL) and quota (recreational ACT) are 404,000 pounds (lb)(183,251 kilograms (kg)) and 335,320 lb (152,099 kg), respectively (50 CFR 622.41(a)(2)(iii) and 622.39(a)(2)(ii)). The fishing year for the Gulf greater amberjack recreational sector is August 1 through July 31 (50 CFR 622.7(h)) and recreational fishing for greater amberjack in the Gulf EEZ is generally allowed September 1 through October 31 each year (50 CFR 622.24(c)).

The recreational accountability measure (AM) states that when the recreational ACT is reached, or is projected to be reached, NMFS is required to close the greater amberjack recreational sector by filing a notification to that effect with the Office of the Federal Register (50 CFR 622.41(a)(2)(i)). The recreational AM also states that if NMFS estimates that greater amberjack recreational landings have exceeded the recreational ACL, then in the following fishing year, the recreational ACL and recreational ACT will be reduced by the amount of the recreational ACL overage in the prior fishing year (50 CFR 622.41(a)(2)(ii)).

In the 2024-2025 fishing year, greater amberjack recreational landings were 882,451 lb (400,273 kg), exceeding the recreational ACL by 478,451 lb (217,022 kg). Therefore, in accordance with the recreational AM at 50 CFR 622.41(a)(2)(ii), for the 2025-2026 fishing year, the recreational ACL of 404,000 lb (183,251 kg) and the recreational ACT of 335,320 lb (152,099 kg) are reduced by the recreational ACL overage amount of 478,451 lb (212,022 kg). This results in an adjusted recreational ACL and ACT of zero for the current 2025-2026 fishing year.

In accordance with the recreational AMs at 50 CFR 622.41(a)(2)(i), NMFS closes recreational harvest of greater amberjack from the Gulf EEZ effective 12:01 a.m., local time, September 27, 2025, until 12:01 a.m., local time, August 1, 2026, when the next recreational fishing year is scheduled to begin.

During the recreational closure, the bag and possession limits for greater amberjack in or from the Gulf EEZ are zero. The prohibition on possession of Gulf greater amberjack also applies in Gulf state waters for any vessel issued a valid Federal charter vessel/headboat permit for Gulf reef fish.

NMFS notes that on September 2, 2025, commercial harvest of Gulf greater amberjack was closed for the remainder of the current commercial fishing year of January 1 through December 31, 2025, because NMFS determined that harvest had exceeded the commercial ACL (90 FR 42138, August 29, 2025).

Classification

NMFS issues this action pursuant to section 305(d) of the Magnuson-Stevens Act. This action is required by 50 CFR 622.41(a)(1), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulations associated with the closure of the greater amberjack recreational sector at 50 CFR 622.41(a)(2) have already been subject to notice and public comment, and all that remains is to notify the public of the closure. Prior notice and opportunity for public comment are contrary to the public interest because there is a need to immediately implement this action to protect the greater amberjack stock, which is classified as overfished and is under a rebuilding plan.

Authority: 16 U.S.C. 1801 et seq.

Dated: September 23, 2025.
Kelly Denit,
Director, Office of Sustainable Fisheries, National Marine Fisheries Service.

[FR Doc. 2025-18694 Filed 9-24-25; 4:15 pm]

BILLING CODE 3510-22-P